DEPARTMENT OF LABOR

Employment and Training Administration

[TA-W-54,425]

Bloomsburg Mills, Inc., Bloomsburg, PA; Notice of Termination of Investigation

Pursuant to section 221 of the Trade Act of 1974, as amended, an investigation was initiated on March 5, 2004, in response to a petition filed by a company official on behalf of workers at Bloomsburg Mills, Inc., Bloomsburg, Pennsylvania.

This petition is a duplicate of the petition filed for workers of the subject firm under TA-W-54,443, for which a certification was issued on March 16, 2004. Consequently, further investigation in this case would serve no purpose, and the investigation has been terminated.

Signed at Washington, DC, this 16th day of March, 2004.
Linda G. Poole,
Certifying Officer, Division of Trade Adjustment Assistance.

[FR Doc. 04-7577 Filed 4-2-04; 8:45 am]

BILLING CODE 4510-30-P